DEPARTMENT OF THE INTERIOR

Fish and Wildlife Service

50 CFR Part 14

RIN: 1018-AH75

Conferring Designated Port Status on Anchorage, Alaska

AGENCY: Fish and Wildlife Service, Interior.

ACTION: Final rule.

SUMMARY: The U.S. Fish and Wildlife Service confers designated port status on Anchorage, Alaska, pursuant to section 9(f) of the Endangered Species Act of 1973. Designated port status will allow the direct importation and exportation of wildlife through this growing international port. A public hearing has been held on this designation.

DATES: This rule is effective March 13, 2002.

FOR FURTHER INFORMATION CONTACT: Special Agent Julie Scully, (703) 358-1949, or Special Agent Stanley Pruszenski, Assistant Regional Director for Law Enforcement, U.S. Fish and Wildlife Service, Anchorage, Alaska, (907) 786-3311.

SUPPLEMENTARY INFORMATION:

Background

The Endangered Species Act requires that all fish and wildlife, with only limited exceptions, be imported and exported through designated ports. Designated ports facilitate U.S. efforts to monitor wildlife trade and enforce wildlife protection laws and regulations by funneling wildlife shipments through a limited number of locations. The Secretary of the Interior, with approval of the Secretary of the Treasury, designates ports for wildlife trade by regulation after holding a public hearing and collecting and considering public comments. The Service presently has 13 designated ports of entry for the importation and exportation of wildlife: Los Angeles, California; San Francisco, California; Miami, Florida; Honolulu, Hawaii; Chicago, Illinois; New Orleans, Louisiana; New York, New York; Seattle, Washington; Dallas/Fort Worth, Texas; Portland, Oregon; Baltimore, Maryland; Boston, Massachusetts; and Atlanta, Georgia. The Service maintains a staff of wildlife inspectors at each designated port to inspect and clear wildlife shipments. Regulatory exceptions allow certain types of wildlife shipments to enter or leave the country through ports that are not designated. Under certain conditions, importers and exporters can obtain a permit from the Service authorizing their use of non-designated ports. The importer or exporter will accrue additional fees associated with the inspection and permit authorizing use of a non-designated port.

Summary of Comments and Information Received

Section 9(f) of the Endangered Species Act of 1973, 16 U.S.C. 1538 (f)(1), requires that the public be given an opportunity to comment at a hearing before the Secretary of the Interior confers designated port status on any port. The Service published a proposed rule in the Federal Register of August 20, 2001 (66 FR 43554), to make Anchorage, Alaska, a designated port under section 9 (f) and to announce a public hearing.

Accordingly, the Service held a public hearing on September 17, 2001, beginning at 6 p.m., at the Fish and Wildlife Service Alaska Regional Office, Anchorage, Alaska. The Service received oral comments from two persons in the import and export arena: A manager from the Federal Express Corporation and the director of the Alaska Export Assistance Center, U.S. Department of Commerce.

One commenter stated that his company has supported the Service's effort to designate the Port of Anchorage for a long time. The second commenter said that the opportunity to use Anchorage as a designated port for wildlife trade promised continued expansion of Alaska's business potential and would facilitate increased exports from the State.

Service Response

The Service appreciates the oral comments received at the public hearing in support of the designation of Anchorage as a designated port. No written comments were submitted to the Service in response to the proposed rule.

Need for Final Rulemaking

The proximity of Anchorage to the Asian continent has prompted the State of Alaska, the City of Anchorage, and private groups such as international express carriers, the Alaskan tourism industry, and the outdoor recreational industry to target foreign trade markets as a way to bring increased economic growth to Anchorage. Stevens International Airport is expanding and a 100,000-square-foot warehouse is being constructed to accommodate both the growth in airline passengers and the 20 million tons of air freight that already pass through Anchorage each year. This volume is one of the highest for any airport in the United States, and future increases of 11.1 percent per year are projected. International cargo off-loaded in Anchorage has been estimated at 341 million pounds for the year 2000.

Two large international express carriers have regional hubs in Anchorage. Since 1995, both carriers have experienced an annual increase in the volume of international shipments of between 18 to 22 percent. Parallel growth has occurred in the number of wildlife shipments. Since the Service charges higher fees for inspecting and clearing shipments at Anchorage and other non-designated ports, wildlife importers using these facilities have asked that over 70 percent of their shipments be cleared at designated ports of entry in the lower 48 States. Making Anchorage a designated port will facilitate clearance of these shipments and reduce costs for all importers and exporters bringing wildlife through this city.

Increases in international visitors to Alaska have also affected the number of wildlife shipments requiring clearance. The number of U.S. and foreign hunters requesting clearance of wildlife trophies in Anchorage has increased by nearly 300 percent in the last 5 years. Since 1995, the number of foreign hunters exporting Alaskan big game trophies has jumped by 73 percent, adding substantially to the total number of wildlife shipments cleared in Anchorage.

The Service's data for fiscal year 2000 show that the port of Anchorage handled a total of 3,555 wildlife shipments with a declared value of $9.3 million. Anchorage has the highest number of declared wildlife shipments per wildlife inspector of any port in the Nation. The Service projects that the number of wildlife shipments will triple over the next 3 to 5 years following the establishment of Anchorage as a designated port. This projection is based on trends associated with the designation of the ports of Dallas-Fort Worth, Portland, and Atlanta.

Existing and projected increases in air and express cargo along with substantial growth in the number of airline passengers, international visitors, and hunters seeking clearance of wildlife imports and exports justify the designation of the port of Anchorage. This change will improve service to international mail carriers, small businesses, and the public while maintaining effective regulation of U.S. wildlife trade.

In accordance with 5 U.S.C. 553(d)(1), we are making this rule effective upon publication because it recognizes an exemption to the restriction in 50 CFR 14.11.

Required Determinations

This final rule has not been reviewed by the Office of Management and Budget (OMB) under Executive Order 12866. In accordance with the criteria in Executive Order 12866, this rule is not a significant regulatory action.

a. This rule will not have an annual economic effect of $100 million or adversely affect an economic sector, productivity, jobs, the environment, or other units of government. A cost-benefit and economic analysis is not required.

The purpose of this rule is to confer designated port status on Anchorage, Alaska. This conferral will have very little or no adverse effect on the economic sector, productivity, jobs or the environment, or other units of government. It is intended to decrease the administrative and financial burden on wildlife importers and exporters by allowing them to use the port of Anchorage for all varieties of wildlife shipments. This rule provides a small benefit to those businesses that deal in wildlife trade by allowing the inspection of shipments in Anchorage, and will result in a savings of approximately $65 per shipment for the importer or exporter.

The funds necessary to confer designated port status on Anchorage have been specifically allocated by the United States Congress as part of the FY 2001 budget.

b. This rule will not create inconsistencies with other agencies' actions. The Service is responsible for regulating the import and export of wildlife, and their parts and products. Therefore, this proposed policy has no effect on other agencies' responsibilities and will not create inconsistencies with other agencies' actions.

c. This rule will not materially affect entitlements, grants, loan programs, or the rights and obligations of their recipients. It will, however, affect user fees. User fees will be decreased or cancelled depending on the importer or exporter's status as a licensee. 50 CFR 14.91 specifies that persons engaged in business as importers or exporters of wildlife are required to be licensed by the Service. Engage in business is defined as devoting time, attention, labor, or profit to an activity for gain or profit. As stated in 50 CFR 14.94, the inspection fees during normal working hours at non-designated ports (Anchorage) for licensees and non-licensees are $55 plus a two-hour minimum at $20/hr. A $25 designated port exception permit is also required to use the port of Anchorage. The inspection fee associated with designated ports during normal working hours is $55 for licensees and no charge for non-licensees. As a consequence, licensees will save approximately $65 per shipment by having inspection capability in Anchorage for all wildlife shipments.

d. This rule will not raise novel legal or policy issues. This rule will not raise novel legal or policy issues because it is based upon specific language in the Endangered Species Act and the Code of Federal Regulations which has been applied numerous times to various ports around the country.

The Department of the Interior (Department) has determined that this rule will not have a significant economic effect on a substantial number of small entities under the Regulatory Flexibility Act (5 U.S.C. 601 et seq.). The Service anticipates that the addition of the port of Anchorage to the list of Service-designated ports for the importation and exportation of wildlife will have no adverse effect upon individual industries and cause no demographic changes in populations. In addition, the Service anticipates that this rule will not increase direct costs for small entities and will have no effect upon information collection and record keeping requirements. In light of this analysis, the Service has determined that the rule will not have a significant economic effect on a substantial number of small entities as defined in the Regulatory Flexibility Act, 5 U.S.C. 601 et seq.

The Service has determined that this rule will not affect energy supplies, distribution, and use as described in Executive Order 13211. Therefore, this action is not a significant energy action and no Statement of Energy Effects is required.

This final rule has no private property takings implications as defined in Executive Order 12630. The only effect of this rule will be to make it easier for businesses to import and export wildlife directly through Anchorage, Alaska.

This action does not contain any federalism impacts as described in Executive Order 13132.

This final rule does not contain any information collection requirements that require approval by the Office of Management and Budget under the Paperwork Reduction Act, 44 U.S.C. 3501 et seq.

These changes in the regulations in part 14 are regulatory and enforcement actions covered by a categorical exclusion from National Environmental Policy Act procedures under 516 Department Manual, Chapter 2, Appendix 1.10.

In accordance with Executive Order 12988, the Office of the Solicitor has determined that this rule does not unduly burden the judicial system and meets the requirements of sections 3(a) and 3(b)(2) of the Order.

A determination has been made under Section 7 of the Endangered Species Act that this revision of Part 14 will not affect federally listed species.

In accordance with the Unfunded Mandates Reform Act (2 U.S.C. 1501 et seq.), this rule will not “significantly or uniquely” affect small governments.

This final rule is not a major rule under 5 U.S.C. 804(2), the Small Business Regulatory Enforcement Fairness Act. This rule:

a. Does not have an annual effect on the economy of $100 million or more. The port of Anchorage currently clears imports when the shipper requests clearance in Anchorage, as opposed to continuing under U.S. Customs bond to a designated port. The economic impact of authorizing Anchorage as a designated port can be approximated by multiplying the average number of shipments by the average difference in fees associated with designated and non-designated ports. The estimated annual benefit to importers and exporters will be roughly $250,000. This benefit will accrue primarily to small businesses involved in the wildlife trade.

b. Will not cause a major increase in costs or prices for consumers, individual industries, Federal, State, or local government agencies, or geographic regions.

c. Does not have significant adverse effects on competition, employment, investment, productivity, innovation, or the ability of U.S.-based enterprises to compete with foreign-based enterprises.

In accordance with the presidential memorandum of April 29, 1994, “Government-to-Government Relations with Native American Tribal Governments” (59 FR 22951), Executive Order 13175, and 512 DM 2, we have evaluated possible effects on federally recognized Indian tribes and have determined that there are no effects. Individual tribal members are subject to the same regulatory requirements as other individuals who engage in the import and export of wildlife.

Author

The originator of this final rule is Special Agent Julie Scully, Division of Law Enforcement, U.S. Fish and Wildlife Service, Washington, D.C.

List of Subjects in 50 CFR Part 14

Animal welfare, Exports, Fish, Imports, Labeling, Reporting and record keeping requirements, Transportation, Wildlife.

Regulation Promulgation

For the reasons set out in the preamble, the Service amends part 14, subchapter B, of title 50 of the Code of Federal Regulations as set forth below.

PART 14—[AMENDED]

1. The authority citation for part 14 continues to read as follows:

Authority: 16 U.S.C. 668, 704, 712, 1382, 1538(d)-(f), 1540(f), 3371-3378, 4223-4244, and 4901-4916; 18 U.S.C. 42; 31 U.S.C. 9701.

2. Revise § 14.12 to read as follows:

§ 14.12 Designated ports.

The following ports of entry are designated for the importation and exportation of wildlife and are referred to hereafter as “designated ports:”

(a) Los Angeles, California.

(b) San Francisco, California.

(c) Miami, Florida.

(d) Honolulu, Hawaii.

(e) Chicago, Illinois.

(f) New Orleans, Louisiana.

(g) New York, New York.

(h) Seattle, Washington.

(i) Dallas/Fort Worth, Texas.

(j) Portland, Oregon.

(k) Baltimore, Maryland.

(l) Boston, Massachusetts.

(m) Atlanta, Georgia.

(n) Anchorage, Alaska.

Dated: February 13, 2002.
Joseph E. Doddridge,
Assistant Secretary for Fish and Wildlife and Parks.

[FR Doc. 02-5860 Filed 3-12-02; 8:45 am]

BILLING CODE 4310-55-P